DEPARTMENT OF STATE

[Public Notice: 9760]

Notice of Intent To Solicit Comments and Conduct a Public Scoping Meeting on a Global Water Strategy

AGENCY: Department of State.

ACTION: Notice.

SUMMARY: The U.S. Department of State (Department) will host a listening session to solicit public comments on the development and content of a strategy to address global water challenges including, but not necessarily limited to: (1) Increasing access to safe drinking water, sanitation, and hygiene; (2) improving water resource management; and (3) promoting cooperation on shared waters. Participants will be asked to provide brief remarks (up to 3 minutes) highlighting specific challenges that should be addressed and opportunities to strengthen U.S. engagement on international water issues.

DATES: This session will take place on Friday, October 28 from 1:00-4:00 p.m. in the George C. Marshall Center at the U.S. Department of State, 2201 C St. NW., (21st Street Entrance), Washington, DC. Attendees must confirm their attendance at GWSRSVP@state.gov. A photo identification will be necessary to attend the session. Written comments must be received no later than November 12, 2016.

ADDRESSES: Written comments may be submitted to https://www.surveymonkey.com/r/USG-Water by following the prompts. Comments may also be submitted by mail, addressed to: Global Water Strategy Manager, Office of Conservation and Water, Room 2657, U.S. Department of State, 2201 C Street NW., Washington, DC 20520 and/or by email to GWSRSVP@state.gov. Written comments may also be submitted at the public scoping meeting on Friday, October 28, 2016 from 1:00-4:00 p.m.

SUPPLEMENTARY INFORMATION:

Written, electronic, and oral comments will be given equal weight and the Department will consider all comments received or postmarked by November 12, 2016. Comments received or postmarked after that date may be considered to the extent practicable.

For information contact Global Water Strategy Manager at the address listed in ADDRESSES, by email at GWSRSVP@state.gov, or by fax at (202) 736-7351.

Legislation regarding U.S. efforts on international water and sanitation issues include the Senator Paul Simon Water for the Poor Act of 2005 (found at: https://www.congress.gov/bill/109th-congress/house-bill/1973) and the Senator Paul Simon Water for the World Act of 2014 (found at: https://www.congress.gov/bill/113th-congress/house-bill/2901).

Previous Reports to Congress on the implementation of the Senator Paul Simon Water for the Poor Act can be found at: http://www.state.gov/e/oes/water/waterforthepoor/index.htm.

Dated: October 5, 2016.
Sherry Zalika Sykes,
Acting Director, Office of Conservation and Water, Department of State.

[FR Doc. 2016-25033 Filed 10-14-16; 8:45 am]

BILLING CODE 4710-09-P